NATIONAL SCIENCE FOUNDATION

Committee on Equal Opportunities in Science and Engineering; Notice of Meeting

In accordance with the Federal Advisory Committee Act Pub. L. 92-463, as amended, the National Science Foundation announces the following meeting:

NAME: Committee on Equal Opportunities in Science and Engineering (1173).

DATES/TIMES: February 7, 2002, 8:30 am-5 pm and February 8, 2002, 9 am-2 pm.

PLACE: Room 1235, National Science Foundation, 4201 Wilson Blvd., Arlington, VA.

TYPE OF MEETING: Open.

CONTACT PERSON: John Wilkinson, Executive Liaison to CEOSE, National Science Foundation, 4201 Wilson Blvd., Arlington, VA 22230. Phone (703) 292-8741.

MINUTES: May be obtained from the Executive Liaison at the above address.

PURPOSE OF MEETING: To provide advice and recommendations concerning broadening participation in science and engineering.

AGENDA

Thursday, February 7, 2002

8:30 a.m. Welcome; Approval of June 2001 Minutes

9:15 a.m. Discussion of NSF Data Collection and Reporting

12:30 p.m. Lunch

1:30 p.m. Discussion of Use of Supplements to Broaden Participation

5:00 p.m. Adjourn for the day

Friday, February 8

9:00 a.m. Committee Discussion

10:15 a.m. Discussion with Director, NSF

11:00 a.m. Discussion of article “Hopwood and the Top 10 Percent ”—Next Steps

12:00 p.m. Lunch

1:00 p.m. Committee Discussion: Wrap-up and Future Directions

2:00 p.m. Adjourn

Dated: January 15, 2002.
Susanne Bolton,
Committee Management Officer.

[FR Doc. 02-1417 Filed 1-18-02; 8:45 am]

BILLING CODE 7555-01-M